DEPARTMENT OF ENERGY

Federal Energy Regulatory Commission

Combined Notice of Filings #1

Take notice that the Commission received the following exempt wholesale generator filings:

Docket Numbers: EG20-221-000.

Applicants: Kings Point Wind, LLC.

Description: Notice of Self-Certification of Exempt Wholesale Generator Status of Kings Point Wind, LLC.

Filed Date: 7/30/20.

Accession Number: 20200730-5103.

Comments Due: 5 p.m. ET 8/20/20.

Docket Numbers: EG20-222-000.

Applicants: North Fork Ridge Wind, LLC.

Description: Notice of Self-Certification of Exempt Wholesale Generator Status of North Fork Ridge Wind, LLC.

Filed Date: 7/30/20.

Accession Number: 20200730-5105.

Comments Due: 5 p.m. ET 8/20/20.

Take notice that the Commission received the following electric rate filings:

Docket Numbers: ER19-1902-003.

Applicants: Deseret Generation & Transmission Co-operative, Inc.

Description: Compliance filing: ER19-1902 Second Compliance Filing to be effective 5/20/2019.

Filed Date: 7/30/20.

Accession Number: 20200730-5049.

Comments Due: 5 p.m. ET 8/20/20.

Docket Numbers: ER19-2507-003; ER13-1793-015; ER12-1260-016.

Applicants: Convergent Energy and Power LP, Hazle Spindle, LLC, Stephentown Spindle, LLC.

Description: Notice of Change in Status of the Convergent MBR Sellers.

Filed Date: 7/30/20.

Accession Number: 20200730-5123.

Comments Due: 5 p.m. ET 8/20/20.

Docket Numbers: ER20-2047-001.

Applicants: Ormond Beach Power, LLC.

Description: Tariff Amendment: Supplement to Application for Market-Based Rate Authorization to be effective 12/31/9998.

Filed Date: 7/30/20.

Accession Number: 20200730-5131.

Comments Due: 5 p.m. ET 8/20/20.

Docket Numbers: ER20-2048-001.

Applicants: Ellwood Power, LLC.

Description: Tariff Amendment: Supplement to Application for Market-Based Rate Authorization to be effective 12/31/9998.

Filed Date: 7/30/20.

Accession Number: 20200730-5133.

Comments Due: 5 p.m. ET 8/20/20.

Docket Numbers: ER20-2542-000.

Applicants: All Choice Energy, LLC.

Description: Baseline eTariff Filing: All Choice Energy Market-Based Rate Application to be effective 7/31/2020.

Filed Date: 7/30/20.

Accession Number: 20200730-5001.

Comments Due: 5 p.m. ET 8/20/20.

Docket Numbers: ER20-2543-000.

Applicants: Crystal Lake Wind Energy II, LLC.

Description: Baseline eTariff Filing: Reactive Power Compensation Filing to be effective 9/28/2020.

Filed Date: 7/30/20.

Accession Number: 20200730-5009.

Comments Due: 5 p.m. ET 8/20/20.

Docket Numbers: ER20-2544-000.

Applicants: Southwest Power Pool, Inc.

Description: § 205(d) Rate Filing: 3718 Frontier Windpower II GIA to be effective 7/24/2020.

Filed Date: 7/30/20.

Accession Number: 20200730-5012.

Comments Due: 5 p.m. ET 8/20/20.

Docket Numbers: ER20-2545-000.

Applicants: Southwest Power Pool, Inc.

Description: § 205(d) Rate Filing: 3719 Chilocco Wind Farm GIA to be effective 7/24/2020.

Filed Date: 7/30/20.

Accession Number: 20200730-5013.

Comments Due: 5 p.m. ET 8/20/20.

Docket Numbers: ER20-2546-000.

Applicants: Midcontinent Independent System Operator, Inc, Ameren Illinois Company.

Description: § 205(d) Rate Filing: 2020-07-30_SA 2276 Ameren-Dynegy 2nd Rev DFSA to be effective 9/29/2020.

Filed Date: 7/30/20.

Accession Number: 20200730-5036.

Comments Due: 5 p.m. ET 8/20/20.

Docket Numbers: ER20-2547-000.

Applicants: Southwest Power Pool, Inc.

Description: § 205(d) Rate Filing: 1166R34 Oklahoma Municipal Power Authority NITSA NOA to be effective 7/1/2020.

Filed Date: 7/30/20.

Accession Number: 20200730-5041.

Comments Due: 5 p.m. ET 8/20/20.

Docket Numbers: ER20-2548-000.

Applicants: AEP Texas Inc.

Description: § 205(d) Rate Filing: AEPTX-Sharyland Utilities 3rd Amended Interconnection Agreement to be effective 7/27/2020.

Filed Date: 7/30/20.

Accession Number: 20200730-5056.

Comments Due: 5 p.m. ET 8/20/20.

Docket Numbers: ER20-2549-000.

Applicants: Southwest Power Pool, Inc.

Description: § 205(d) Rate Filing: 3499R1 Poplar Bluff Municipal Utilities NITSA NOA to be effective 7/1/2020.

Filed Date: 7/30/20.

Accession Number: 20200730-5078.

Comments Due: 5 p.m. ET 8/20/20.

Docket Numbers: ER20-2550-000.

Applicants: Entergy Mississippi, LLC.

Description: § 205(d) Rate Filing: EML Choctaw Reactive to be effective 10/1/2020.

Filed Date: 7/30/20.

Accession Number: 20200730-5085.

Comments Due: 5 p.m. ET 8/20/20.

Docket Numbers: ER20-2551-000.

Applicants: ISO New England Inc., New England Power Company.

Description: Compliance filing: New England Power Company; Order No. 864 Compliance Revisions to be effective 1/1/2021.

Filed Date: 7/30/20.

Accession Number: 20200730-5086.

Comments Due: 5 p.m. ET 8/20/20.

Docket Numbers: ER20-2552-000.

Applicants: Duke Energy Carolinas, LLC.

Description: § 205(d) Rate Filing: DEC-Lockhart Revised NITSA SA- 407 to be effective 7/1/2020.

Filed Date: 7/30/20.

Accession Number: 20200730-5114.

Comments Due: 5 p.m. ET 8/20/20.

Docket Numbers: ER20-2553-000.

Applicants: New England Power Company.

Description: Compliance filing: Order No. 864 Compliance Revisions to TSA-NEP-22 to be effective 1/1/2021.

Filed Date: 7/30/20.

Accession Number: 20200730-5116.

Comments Due: 5 p.m. ET 8/20/20.

Docket Numbers: ER20-2554-000.

Applicants: Entergy Texas, Inc.

Description: § 205(d) Rate Filing: ETI-Newton Wholesale Distribution Service Agreement to be effective 9/1/2020.

Filed Date: 7/30/20.

Accession Number: 20200730-5124.

Comments Due: 5 p.m. ET 8/20/20.

Docket Numbers: ER20-2555-000.

Applicants: New York Independent System Operator, Inc.

Description: § 205(d) Rate Filing: 205 tariff revisions to enhance peak load forecast to be effective 9/29/2020.

Filed Date: 7/30/20.

Accession Number: 20200730-5143.

Comments Due: 5 p.m. ET 8/20/20.

Docket Numbers: ER20-2556-000.

Applicants: PJM Interconnection, L.L.C.

Description: § 205(d) Rate Filing: First Revised Service Agreement No. 4547; Queue No. AF1-181/AF1-182/AF1-183 to be effective 6/30/2020.

Filed Date: 7/30/20.

Accession Number: 20200730-5145.

Comments Due: 5 p.m. ET 8/20/20.

Docket Numbers: ER20-2557-000.

Applicants: Duke Energy Florida, LLC.

Description: § 205(d) Rate Filing: DEF- Winter Park NITSA to be effective 10/1/2020.

Filed Date: 7/30/20.

Accession Number: 20200730-5158.

Comments Due: 5 p.m. ET 8/20/20.

Docket Numbers: ER20-2558-000.

Applicants: Arizona Public Service Company.

Description: § 205(d) Rate Filing: Rate Schedule No. 217, Exhibit B.RVL to be effective 10/1/2020.

Filed Date: 7/30/20.

Accession Number: 20200730-5160.

Comments Due: 5 p.m. ET 8/20/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at:

http://www.ferc.gov/docs-filing/efiling/filing-req.pdf. For other information, call (866) 208-3676 (toll free). For TTY, call (202) 502-8659.

Dated: July 30, 2020.
Nathaniel J. Davis, Sr.,
Deputy Secretary.

[FR Doc. 2020-17074 Filed 8-4-20; 8:45 am]

BILLING CODE 6717-01-P